ENVIRONMENTAL PROTECTION AGENCY

40 CFR Part 52

Approval and Promulgation of Implementation Plans

CFR Correction

In Title 40 of the Code of Federal Regulations, Part 52 (§ 52.1019 to end), revised as of July 1, 2000, on page 460, § 52.2026 is corrected by removing the introductory sentence, and removing and reserving paragraphs (a) and (b).

[FR Doc. 01-55506 Filed 3-7-01; 8:45 am]

BILLING CODE 1505-01-D